DEPARTMENT OF ENERGY

Federal Energy Regulatory Commission

Combined Notice of Filings #2

Take notice that the Commission received the following electric corporate filings:

Docket Numbers: EC14-4-000.

Applicants: Duke Energy Ohio, Inc., The Dayton Power and Light Company, Duke Energy Ohio, Inc.

Description: Application of Authorization under Section 203 of the FPA by Ohio Power Company, et al.

Filed Date: 10/11/13.

Accession Number: 20131011-5211.

Comments Due: 5 p.m. ET 11/1/13.

Docket Numbers: EC14-5-000.

Applicants: Leidos Renewable Energy, LLC, Plainfield Renewable Energy, LLC.

Description: Application for Authorization under Section 203 of the Federal Power Act for the Disposition of Jurisdictional Facilities, Request for Expedited Consideration and Confidential Treatment of Leidos Renewable Energy, LLC, et. al.

Filed Date: 10/11/13.

Accession Number: 20131011-5218.

Comments Due: 5 p.m. ET 11/1/13.

Docket Numbers: EC14-6-000.

Applicants: Aircraft Services Corporation, East Coast Power Linden Holding, L.L.C., Cogen Technologies Linden Venture, L.P., Highstar Capital GP, IV, L.P.

Description: Joint Application of Aircraft Services Corporation, et al. for approval of transfer of securities and disposition of facilities pursuant to FPA Section 203 and Request for Expedited Action.

Filed Date: 10/11/13.

Accession Number: 20131011-5227.

Comments Due: 5 p.m. ET 11/1/13.

Take notice that the Commission received the following electric rate filings:

Docket Numbers: ER13-238-001.

Applicants: Appalachian Power Company.

Description: Withdraw Mitchell Operating Agreement to be effective 1/1/2014.

Filed Date: 10/15/13.

Accession Number: 20131015-5289.

Comments Due: 5 p.m. ET 11/5/13.

Docket Numbers: ER13-239-001.

Applicants: Kentucky Power Company.

Description: Mitchell Operating Agreement Amendment to be effective 1/1/2014.

Filed Date: 10/15/13.

Accession Number: 20131015-5294.

Comments Due: 5 p.m. ET 11/5/13.

Docket Numbers: ER13-868-003.

Applicants: Midcontinent Independent System Operator, Inc.

Description: 2013-10-11 Module E-2 Compliance to be effective 4/3/2013.

Filed Date: 10/11/13.

Accession Number: 20131011-5118.

Comments Due: 5 p.m. ET 11/1/13.

Docket Numbers: ER13-1718-001.

Applicants: Midcontinent Independent System Operator, Inc.

Description: 2013-10-14 Name Change Compliance Filing to be effective 6/1/2013.

Filed Date: 10/15/13.

Accession Number: 20131015-5029.

Comments Due: 5 p.m. ET 11/5/13.

Docket Numbers: ER13-1896-001.

Applicants: AEP Generation Resources Inc.

Description: Application of AEP Generation Resources Inc. for Market-Based Rate Amendment to be effective 1/1/2014.

Filed Date: 10/15/13.

Accession Number: 20131015-5300.

Comments Due: 5 p.m. ET 11/5/13.

Docket Numbers: ER14-74-000.

Applicants: Midcontinent Independent System Operator, Inc.

Description: 10-11-2013 SA 2545 Ameren-IMEA Waterloo Construction Agr to be effective 9/30/2013.

Filed Date: 10/11/13.

Accession Number: 20131011-5103.

Comments Due: 5 p.m. ET 11/1/13.

Docket Numbers: ER14-75-000.

Applicants: Entergy Arkansas, Inc.

Description: Section 1.01 Amendment to be effective 10/12/2013.

Filed Date: 10/11/13.

Accession Number: 20131011-5160.

Comments Due: 5 p.m. ET 11/1/13.

Docket Numbers: ER14-76-000.

Applicants: Entergy Gulf States Louisiana, L.L.C.

Description: Section 1.01 Amendment to be effective 10/12/2013.

Filed Date: 10/11/13.

Accession Number: 20131011-5165.

Comments Due: 5 p.m. ET 11/1/13.

Docket Numbers: ER14-77-000.

Applicants: Entergy Louisiana, LLC.

Description: Section 1.01 Amendment to be effective 10/12/2013.

Filed Date: 10/11/13.

Accession Number: 20131011-5166.

Comments Due: 5 p.m. ET 11/1/13.

Docket Numbers: ER14-78-000.

Applicants: Entergy Mississippi, Inc.

Description: Section 1.01 Amendment to be effective 10/12/2013.

Filed Date: 10/11/13.

Accession Number: 20131011-5167.

Comments Due: 5 p.m. ET 11/1/13.

Docket Numbers: ER14-79-000.

Applicants: Entergy New Orleans, Inc.

Description: Section 1.01 Amendment to be effective 10/12/2013.

Filed Date: 10/11/13.

Accession Number: 20131011-5168.

Comments Due: 5 p.m. ET 11/1/13.

Docket Numbers: ER14-80-000.

Applicants: Entergy Texas, Inc.

Description: Section 1.01 Amendment to be effective 10/12/2013.

Filed Date: 10/11/13.

Accession Number: 20131011-5169.

Comments Due: 5 p.m. ET 11/1/13.

Docket Numbers: ER14-81-000.

Applicants: Pacific Gas and Electric Company.

Description: Balancing Account Update 2014 (TRBAA, RSBAA, and ECRBAA) to be effective 1/1/2014.

Filed Date: 10/11/13.

Accession Number: 20131011-5205.

Comments Due: 5 p.m. ET 11/1/13.

Docket Numbers: ER14-82-000.

Applicants: Midcontinent Independent System Operator, Inc.

Description: 10-14-13 Module A Reorganization to be effective 10/15/2013.

Filed Date: 10/15/13.

Accession Number: 20131015-5034.

Comments Due: 5 p.m. ET 11/5/13.

Docket Numbers: ER14-83-000.

Applicants: Midcontinent Independent System Operator, Inc.

Description: 10-14-2013 External Resources Filing to be effective 12/13/2013.

Filed Date: 10/15/13.

Accession Number: 20131015-5045.

Comments Due: 5 p.m. ET 11/5/13.

Docket Numbers: ER14-84-000.

Applicants: California Independent System Operator Corporation.

Description: Petition for Distribution of Forfeited Funds Collected from Generator Interconnection Customers of California Independent System Operator Corporation.

Filed Date: 10/15/13.

Accession Number: 20131015-5210.

Comments Due: 5 p.m. ET 11/5/13.

Docket Numbers: ER14-85-000.

Applicants: ISO New England Inc.

Description: ISO New England Inc., Capital Budget Quarterly Filing for 3rd Quarter of 2013.

Filed Date: 10/15/13.

Accession Number: 20131015-5223.

Comments Due: 5 p.m. ET 11/5/13.

Docket Numbers: ER14-86-000.

Applicants: AEP Generation Resources Inc.

Description: Mitchell Operating Agreement Concurrence to be effective 1/1/2014.

Filed Date: 10/15/13.

Accession Number: 20131015-5296.

Comments Due: 5 p.m. ET 11/5/13.

Docket Numbers: ER14-87-000.

Applicants: Appalachian Power Company.

Description: Reactive Supply and Voltage Control from Generation Sources Service Amendment to be effective 1/1/2014.

Filed Date: 10/15/13.

Accession Number: 20131015-5297.

Comments Due: 5 p.m. ET 11/5/13.

Docket Numbers: ER14-88-000.

Applicants: AEP Generation Resources Inc.

Description: Reactive Supply and Voltage Control from Generation Sources Service Amendment to be effective 1/1/2014.

Filed Date: 10/15/13.

Accession Number: 20131015-5298.

Comments Due: 5 p.m. ET 11/5/13.

Docket Numbers: ER14-89-000.

Applicants: Entergy Arkansas, Inc.

Description: Entergy Arkansas, Inc. submits EAI Mo. OATT to be effective 12/19/2013.

Filed Date: 10/15/13.

Accession Number: 20131015-5306.

Comments Due: 5 p.m. ET 11/5/13.

Docket Numbers: ER14-90-000.

Applicants: ISO New England Inc.

Description: ISO New England Inc. submits 2014 Capital and Administrative Budgets to be effective 1/1/2014.

Filed Date: 10/15/13.

Accession Number: 20131015-5310.

Comments Due: 5 p.m. ET 11/5/13.

Docket Numbers: ER14-91-000.

Applicants: ISO New England Inc.

Description: ISO New England Inc. submits Rev. Tariff sheet for Rec. of Costs—2014 Operation of NESCOE to be effective 1/1/2014.

Filed Date: 10/15/13.

Accession Number: 20131015-5311.

Comments Due: 5 p.m. ET 11/5/13.

Docket Numbers: ER14-92-000.

Applicants: Public Service Company of New Mexico.

Description: Public Service Company of New Mexico submits Modification of OATT Sections to be effective 12/14/2013.

Filed Date: 10/15/13.

Accession Number: 20131015-5324.

Comments Due: 5 p.m. ET 11/5/13.

Docket Numbers: ER14-93-000.

Applicants: California Independent System Operator Corporation.

Description: California Independent System Operator Corporation submits 2013-10-15_MSG_Configuration to be effective 12/17/2013.

Filed Date: 10/15/13.

Accession Number: 20131015-5326.

Comments Due: 5 p.m. ET 11/5/13.

Docket Numbers: ER14-94-000.

Applicants: Midcontinent Independent System Operator, Inc., Wolverine Power Supply Cooperative, Inc.

Description: Midcontinent Independent System Operator, Inc. submits 10-15-2013 Consumers-Wolverine Hesperia-Tremaine to be effective 10/16/2013.

Filed Date: 10/15/13.

Accession Number: 20131015-5361.

Comments Due: 5 p.m. ET 11/5/13.

Docket Numbers: ER14-95-000.

Applicants: American Electric Power Service Corporation.

Description: Request of American Electric Power Service Corporation for Waiver of Certain Affiliate Restrictions and Expedited Treatment.

Filed Date: 10/15/13.

Accession Number: 20131015-5369.

Comments Due: 5 p.m. ET 11/5/13.

Take notice that the Commission received the following electric securities filings:

Docket Numbers: ES14-2-000.

Applicants: AEP Generation Resources Inc.

Description: Application Under Section 204 of the Federal Power Act for Authorization to Issue Securities of AEP Generation Resources Inc.

Filed Date: 10/15/13.

Accession Number: 20131015-5295.

Comments Due: 5 p.m. ET 11/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 15, 2013.
Nathaniel J. Davis, Sr.,
Deputy Secretary.

[FR Doc. 2013-24563 Filed 10-21-13; 8:45 am]

BILLING CODE 6717-01-P